DEPARTMENT OF TRANSPORTATION

Federal Aviation Administration

14 CFR Part 39

[Docket No. FAA-2025-0351; Project Identifier MCAI-2024-00480-T; Amendment 39-23149; AD 2025-19-09]

RIN 2120-AA64

Airworthiness Directives; Airbus SAS Airplanes

AGENCY: Federal Aviation Administration (FAA), DOT.

ACTION: Final rule.

SUMMARY: The FAA is superseding Airworthiness Directive (AD) 2023-05-13, which applied to all Airbus SAS Model A300 B4-600, B4-600R, and F4-600R series airplanes; and Model A300 C4-605R Variant F airplanes (collectively called Model A300-600 series airplanes). AD 2023-05-13 required revising the existing maintenance or inspection program, as applicable, to incorporate new or more restrictive airworthiness limitations. Since the FAA issued AD 2023-05-13, the FAA has determined that new or more restrictive airworthiness limitations are necessary. This AD continues to require the actions in AD 2023-05-13 and requires revising the existing maintenance or inspection program, as applicable, to incorporate new or more restrictive airworthiness limitations. The FAA is issuing this AD to address the unsafe condition on these products.

DATES: This AD is effective December 22, 2025.

The Director of the Federal Register approved the incorporation by reference of a certain publication listed in this AD as of December 22, 2025.

The Director of the Federal Register approved the incorporation by reference of a certain other publication listed in this AD as of May 12, 2023 (88 FR 20749, April 7, 2023).

ADDRESSES:

AD Docket: You may examine the AD docket at regulations.gov under Docket No. FAA-2025-0351; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building, Ground Floor, Room W12-140, 1200 New Jersey Avenue SE, Washington, DC 20590.

Material Incorporated by Reference:

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2025-0351.

FOR FURTHER INFORMATION CONTACT: Frank Carreras, Aviation Safety Engineer, FAA, 2200 South 216th St., Des Moines, WA 98198; phone: 206-231-3539; email: Frank.Carreras@faa.gov.

SUPPLEMENTARY INFORMATION:

Background

The FAA issued a notice of proposed rulemaking (NPRM) to amend 14 CFR part 39 to supersede AD 2023-05-13, Amendment 39-22382 (88 FR 20749, April 7, 2023) (AD 2023-05-13). AD 2023-05-13 applied to all Airbus SAS Model A300-600 series airplanes. AD 2023-05-13 required revising the existing maintenance or inspection program, as applicable, to incorporate new or more restrictive airworthiness limitations. The FAA issued AD 2023-05-13 to address fatigue damage in principal structural elements.

The NPRM was published in the Federal Register on March 20, 2025 (90 FR 13107). The NPRM was prompted by AD 2024-0164, dated August 21, 2024 (EASA AD 2024-0164) (also referred to as the MCAI), issued by EASA, which is the Technical Agent for the Member States of the European Union. The MCAI states that new or more restrictive airworthiness limitations have been developed.

The MCAI also states that EASA revised EASA AD 2017-0204 (which corresponds to FAA AD 2018-18-19, Amendment 39-19398 (83 FR 47056, September 18, 2018) (AD 2018-18-19)) to remove Model A300-600 series airplanes from the applicability. Accomplishing the actions specified in this AD therefore terminates all requirements of AD 2018-18-19 for Model A300-600 series airplanes only.

In the NPRM, the FAA proposed to continue to require the actions in AD 2023-05-13. In the NPRM, the FAA also proposed to require revising the existing maintenance or inspection program, as applicable, as specified in EASA AD 2024-0164. The FAA is issuing this AD to address fatigue damage in principal structural elements.

You may examine the MCAI in the AD docket at regulations.gov under Docket No. FAA-2025-0351.

Discussion of Final Airworthiness Directive

Comments

The FAA received comments from two individuals who supported the NPRM without change.

Request To Confirm Intent To Allow Use of Later-Approved Revisions

ProTech Aero Services Limited requested the FAA confirm that the proposed AD would allow the use of later-approved revisions of the material specified in EASA AD 2024-0164, as acceptable for compliance with the AD requirements.

The FAA confirms that it intends to allow the use of later-approved revisions of the material referenced in EASA AD 2024-0164 as acceptable for compliance with the required actions. This AD adopts the “Ref. Publications” section of EASA AD 2024-0164, which includes the current version of the referenced material as well as later approved variations or revisions.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2024-0164, which specifies new or more restrictive airworthiness limitations for airplane structures and safe life limits.

This AD also requires EASA AD 2022-0173, dated August 24, 2022, which the Director of the Federal Register approved for incorporation by reference as of May 12, 2023 (88 FR 20749, April 7, 2023).

This material is reasonably available because the interested parties have access to it through their normal course of business or by the means identified in the ADDRESSES section.

Costs of Compliance

The FAA estimates that this AD affects 128 airplanes of U.S. registry. The FAA estimates the following costs to comply with this AD:

The FAA estimates the total cost per operator for the retained actions from AD 2023-05-13 to be $7,650 (90 work-hours × $85 per work-hour).

The FAA has determined that revising the existing maintenance or inspection program takes an average of 90 work-hours per operator, although the agency recognizes that this number may vary from operator to operator. Since operators incorporate maintenance or inspection program changes for their affected fleet(s), the FAA has determined that a per-operator estimate is more accurate than a per-airplane estimate.

The FAA estimates the total cost per operator for the new actions to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2023-05-13, Amendment 39-22382 (88 FR 20749, April 7, 2023); and

b. Adding the following new AD:

2025-19-09 Airbus SAS: Amendment 39-23149; Docket No. FAA-2025-0351; Project Identifier MCAI-2024-00480-T.

(a) Effective Date

This airworthiness directive (AD) is effective December 22, 2025.

(b) Affected ADs

(1) This AD replaces AD 2023-05-13, Amendment 39-22382 (88 FR 20749, April 7, 2023) (AD 2023-05-13).

(2) This AD affects AD 2018-18-19, Amendment 39-19398 (83 FR 47056, September 18, 2018) (AD 2018-18-19).

(c) Applicability

This AD applies to all Airbus SAS airplanes, certificated in any category, identified in paragraphs (c)(1) through (4) of this AD.

(1) Model A300 B4-601, B4-603, B4-620, and B4-622 airplanes.

(2) Model A300 B4-605R and B4-622R airplanes.

(3) Model A300 C4-605R Variant F airplanes.

(4) Model A300 F4-605R and F4-622R airplanes.

(d) Subject

Air Transport Association (ATA) of America Code 05, Time Limits/Maintenance Checks.

(e) Unsafe Condition

This AD was prompted by a determination that new or more restrictive airworthiness limitations are necessary. The FAA is issuing this AD to address fatigue damage in principal structural elements. The unsafe condition, if not addressed, could result in reduced structural integrity of the airplane.

(f) Compliance

Comply with this AD within the compliance times specified, unless already done.

(g) Retained Revision of the Existing Maintenance or Inspection Program, With a New Terminating Action

This paragraph restates the requirements of paragraph (g) of AD 2023-05-13, with a new terminating action. Except as specified in paragraph (h) of this AD: Comply with all required actions and compliance times specified in, and in accordance with, European Union Aviation Safety Agency (EASA) AD 2022-0173, dated August 24, 2022 (EASA AD 2022-0173). Accomplishing the revision of the existing maintenance or inspection program required by paragraph (k) of this AD terminates the requirements of this paragraph.

(h) Retained Exceptions to EASA AD 2022-0173, With No Change

This paragraph restates the exceptions specified in paragraph (h) of AD 2023-05-13, with no change.

(1) This AD does not adopt the requirements specified in paragraph (1) of EASA AD 2022-0173.

(2) Paragraph (2) of EASA AD 2022-0173 specifies revising “the approved AMP” within 12 months after its effective date, but this AD requires revising the existing maintenance or inspection program, as applicable, within 90 days after May 12, 2023 (the effective date of AD 2023-05-13).

(3) The initial compliance time for doing the tasks specified in paragraph (2) of EASA AD 2022-0173 is at the applicable “limitations” as incorporated by the requirements of paragraph (2) of EASA AD 2022-0173, or within 90 days after May 12, 2023 (the effective date of AD 2023-05-13), whichever occurs later.

(4) This AD does not adopt the provisions specified in paragraph (3) of EASA AD 2022-0173.

(5) This AD does not adopt the “Remarks” section of EASA AD 2022-0173.

(i) Retained Provisions for Alternative Actions and Intervals, With a New Exception

This paragraph restates the requirements of paragraph (i) of AD 2023-05-13, with a new exception. Except as required by paragraph (k) of this AD: After the existing maintenance or inspection program has been revised as required by paragraph (g) of this AD, no alternative actions (e.g., inspections) and intervals are allowed unless they are approved as specified in the provisions of the “Ref. Publications” section of EASA AD 2022-0173.

(j) Retained Terminating Action for Certain Tasks Required by AD 2018-18-19, With No Changes

This paragraph restates the terminating action of paragraph (j) of AD 2023-05-13, with no changes. For Model A300 B4-601, B4-603, B4-620, B4-622, B4-605R, B4-622R, C4-605R Variant F, F4-605R, and F4-622R airplanes only: Accomplishing the actions required by paragraph (g) of this AD terminates the corresponding requirements of AD 2018-18-19 for the tasks identified in the material referenced in EASA AD 2022-0173 only.

(k) New Revision of the Existing Maintenance or Inspection Program

Except as specified in paragraph (l) of this AD: Comply with all required actions and compliance times specified in, and in accordance with, EASA AD 2024-0164, dated August 21, 2024 (EASA AD 2024-0164). Accomplishing the revision of the existing maintenance or inspection program required by this paragraph terminates the requirements of paragraph (g) of this AD.

(l) Exceptions to EASA AD 2024-0164

(1) This AD does not adopt the requirements specified in paragraph (1) of EASA AD 2024-0164.

(2) Paragraph (2) of EASA AD 2024-0164 specifies revising “the approved AMP,” within 12 months after its effective date, but this AD requires revising the existing maintenance or inspection program, as applicable, within 90 days after the effective date of this AD.

(3) The initial compliance time for doing the tasks specified in paragraph (2) of EASA AD 2024-0164 is at the applicable “limitations” as incorporated by the requirements of paragraph (2) of EASA AD 2024-0164, or within 90 days after the effective date of this AD, whichever occurs later.

(4) This AD does not adopt the provisions specified in paragraphs (3) and (4) of EASA AD 2024-0164.

(5) This AD does not adopt the “Remarks” section of EASA AD 2024-0164.

(m) New Provisions for Alternative Actions and Intervals

After the existing maintenance or inspection program has been revised as required by paragraph (k) of this AD, no alternative actions (e.g., inspections) and intervals are allowed unless they are approved as specified in the provisions of the “Ref. Publications” section of EASA AD 2024-0164.

(n) New Terminating Action for AD 2018-18-19

For Model A300 B4-601, B4-603, B4-620, B4-622, B4-605R, B4-622R, C4-605R Variant F, F4-605R, and F4-622R airplanes only: Accomplishing the actions required by paragraph (k) of this AD terminates the corresponding requirements of AD 2018-18-19.

(o) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of Continued Operational Safety Branch, send it to the attention of the person identified in paragraph (p) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(p) Additional Information

For more information about this AD, contact Frank Carreras, Aviation Safety Engineer, FAA, 2200 South 216th St., Des Moines, WA 98198; phone: 206-231-3539; email: Frank.Carreras@faa.gov.

(q) Material Incorporated by Reference

(1) The Director of the Federal Register approved the incorporation by reference (IBR) of the material listed in this paragraph under 5 U.S.C. 552(a) and 1 CFR part 51.

(2) You must use this material as applicable to do the actions required by this AD, unless this AD specifies otherwise.

(3) The following material was approved for IBR on December 22, 2025.

(i) European Union Aviation Safety Agency (EASA) AD 2024-0164, dated August 21, 2024.

(ii) [Reserved]

(4) The following material was approved for IBR on May 12, 2023 (88 FR 20749, April 7, 2023).

(i) EASA AD 2022-0173, dated August 24, 2022.

(ii) [Reserved]

(5) For EASA material identified in this AD, contact EASA, Konrad-Adenauer-Ufer 3, 50668 Cologne, Germany; telephone +49 221 8999 000; email ADs@easa.europa.eu. You may find this material on the EASA website at ad.easa.europa.eu.

(6) You may view this material at the FAA, Airworthiness Products Section, Operational Safety Branch, 2200 South 216th St., Des Moines, WA. For information on the availability of this material at the FAA, call 206-231-3195.

(7) You may view this material at the National Archives and Records Administration (NARA). For information on the availability of this material at NARA, visit www.archives.gov/federal-register/cfr/ibr-locations or email fr.inspection@nara.gov.

Issued on October 2, 2025.
Peter A. White,
Deputy Director, Integrated Certificate Management Division, Aircraft Certification Service.

[FR Doc. 2025-20015 Filed 11-14-25; 8:45 am]

BILLING CODE 4910-13-P